DEPARTMENT OF ENERGY

Federal Energy Regulatory Commission

[Project No. 1927-141]

PacifiCorp; Notice of Effectiveness of Withdrawal of Water Quality Management Plan

On April 12, 2024, PacifiCorp (licensee), filed a Water Quality Management Plan (Plan) for the North Umpqua Hydroelectric Project No. 1927, in accordance with ordering paragraph (L) of the Commission's Order Amending License, Approving Revised Exhibits A, F, and G, Revising Project Description, and Incorporating Water Quality Certificate.¹ On August 1, 2025, the licensee filed a request to withdraw its Water Quality Management Plan.

¹ PacifiCorp, 185 FERC ¶ 62,112 (2023) (delegated order).

No motion in opposition to the request for withdrawal has been filed, and the Commission has taken no action to disallow the withdrawal. Pursuant to Rule 216(b) of the Commission's Rules of Practice and Procedure,² the withdrawal of the application became effective on August 16, 2025, and this proceeding is hereby terminated.

² 18 CFR 385.216(b) (2024).

Dated: August 18, 2025.
Debbie-Anne A. Reese,
Secretary.

[FR Doc. 2025-16013 Filed 8-20-25; 8:45 am]

BILLING CODE 6717-01-P